DEPARTMENT OF TRANSPORTATION

Federal Aviation Administration

Notice of Intent To Release Certain Properties From All Terms, Conditions, Reservations and Restrictions of a Quitclaim Deed Agreement Between the Sarasota Manatee Airport Authority and the Federal Aviation Administration for the Sarasota Bradenton International Airport, Sarasota, FL

AGENCY: Federal Aviation Administration (FAA), DOT.

ACTION: Request for public comment.

SUMMARY: The FAA hereby provides notice of intent to release certain airport properties 7.8392 Acres at the Sarasota Bradenton International Airport, Sarasota, FL from the aeronautical use restriction as contained in a Quitclaim Deed agreement between the United States of America, acting through the War Assets Administrator and the Sarasota Manatee County Airport Authority, dated December 16, 1947. The release of property will allow the Sarasota Manatee County Airport Authority to lease the property for other than aeronautical purposes. The property is located in the Northeast quarter of Section 1, Township 36 South, Range 17 East, Sarasota County, Florida. The parcel is currently designated as aeronautical use. The property use designation will change to non-aeronautical use for the purpose of revenue generation. The fair market value of the property has been determined by appraisal to be between $0.17 and $0.18 per square foot. The airport will receive fair market value for the property, which will be subsequently reinvested in the operating and maintenance of the airport.

Documents reflecting the Sponsor's request are available, by appointment only, for inspection at the Sarasota Bradenton International Airport and the FAA Airports District Office.

SUPPLEMENTARY INFORMATION: Section 125 of The Wendell H. Ford Aviation Investment and Reform Act for the 21st Century (AIR-21) requires the FAA to provide an opportunity for public notice and comment prior to the “waiver” or “modification” of a sponsor's Federal obligation to use certain airport land for non-aeronautical purposes.

DATES: November 24, 2006.

ADDRESSES: Documents are available for review at the Sarasota Brandenton International Airport, and the FAA Airports District Office, 5950 Hazeltine National Drive, Suite 400, Orlando, FL 32822. Written comments on the Sponsor's request must be delivered or mailed to: Krystal G. Hudson, Program Manager, Orlando Airports District Office, 5950 Hazeltine National Drive, Suite 400, Orlando, FL 32822-5024.

FOR FURTHER INFORMATION CONTACT: Krystal G. Hudson, Program Manager, Orlando Airports District Office, 5950 Hazeltine National Drive, Suite 400, Orlando, FL 32822-5024.

W. Dean Stringer,
Manager, Orlando Airports District Office, Southern Region.

[FR Doc. 06-8852 Filed 10-24-06; 8:45 am]

BILLING CODE 4910-13-M